DEPARTMENT OF ENERGY

Federal Energy Regulatory Commission

[Project No. 2467-020]

Merced Irrigation District; Notice of Waiver Period for Water Quality Certification Application

On June 16, 2025, the California State Water Resources Control Board (California Water Board), submitted to the Federal Energy Regulatory Commission (Commission) notice that it received a request for a Clean Water Act section 401(a)(1) water quality certification as defined in 40 CFR 121.5, from the Merced Irrigation District, in conjunction with the above captioned project on May 15, 2025. Pursuant to the Commission's regulations,¹ we hereby notify the California Water Board of the following:

¹ 18 CFR 5.23(b)(2).

Date of Receipt of the Certification Request: May 15, 2025.

Reasonable Period of Time to Act on the Certification Request: One year (May 15, 2026).

If the California Water Board fails or refuses to act on the water quality certification request on or before the above date, then the agency certifying authority is deemed waived pursuant to section 401(a)(1) of the Clean Water Act, 33 U.S.C. 1341(a)(1).

Dated: June 18, 2025.
Debbie-Anne A. Reese,
Secretary.

[FR Doc. 2025-11580 Filed 6-23-25; 8:45 am]

BILLING CODE 6717-01-P